DEPARTMENT OF VETERANS AFFAIRS

Findings of Research Misconduct

AGENCY: Department of Veterans Affairs.

ACTION: Notice.

SUMMARY: The Department of Veterans Affairs (VA) gives notice, pursuant to Veterans Health Administration (VHA) Handbook 1058.02, Research Misconduct, dated February 7, 2014, paragraph 6.k., that the Department has made findings of research misconduct against Hee-Jeong Im Sampen, Ph.D., a research biologist at the Jesse Brown VA Medical Center (VAMC) in Chicago, Illinois. The findings were upheld on appeal per VHA Handbook 1058.02, paragraph 25, which is the version of the applicable VHA policy that was in effect at the time the research misconduct investigation commenced.

FOR FURTHER INFORMATION CONTACT: Shara Kabak, Research Misconduct Officer, Office of Research Oversight (10RO), 810 Vermont Avenue NW, Washington, DC 20420, 202-632-7620 (this is not a toll-free number).

SUPPLEMENTARY INFORMATION: VA has made final findings of research misconduct against Hee-Jeong Im Sampen, Ph.D. (“Respondent”), a research biologist at the Jesse Brown VAMC in Chicago, Illinois.

Based on the recommended findings of a joint investigation conducted by Rush University and Jesse Brown VAMC, the Department found that the Respondent engaged in research misconduct by intentionally, knowingly and/or recklessly falsifying/fabricating data included in the following three published papers, unpublished manuscript, poster presentation and grant application:

• PKCδ Null Mutations in a Mouse Model of Osteoarthritis Alter Osteoarthritic Pain Independently of Joint Pathology by Augmenting NGF/TrkA-Induced Axonal Outgrowth. Annals of the Rheumatic Diseases. 2016 Dec;75(12):2133-2141. doi: 10.1136/annrheumdis-2015-208444 (hereafter “Ann Rheum Dis. 2016”);

• Environmental Disruption of Circadian Rhythm Predisposes Mice to Osteoarthritis-Like Changes in Knee Joint. Journal of Cellular Physiology. 2015 Sep;230(9):2174-2183. doi: 10.1002/jcp.24946 (hereafter “J Cell Physiol. 2015a”);

• Development of an Experimental Animal Model for Lower Back Pain by Percutaneous Injury-Induced Lumbar Facet Joint Osteoarthritis. Journal of Cellular Physiology. 2015 Nov;230(11):2837-2847. doi: 10.1002/jcp.25015 (hereafter “J Cell Physiol. 2015b”);

• “NGF Selective Inhibition Therapy on Facet Joint Pain”—DRAFT manuscript for Arthritis and Rheumatism (hereafter “Arthritis Rheum manuscript”);

• “Inhibition of Glial NFκB Abolished Pain in a Knee Osteoarthritis Model”—2016 poster for the Osteoarthritis Research Society International (hereafter “OARSI presentation 2016”); and

• VA Biomedical Laboratory Research and Development (BLR&D) Merit Award proposal, I01 BX002647-01, “Osteoarthritis and Knee Joint Pain,” submitted on September 18, 2013 (hereafter “VA Merit Award proposal”).

Specifically, the Department found that the Respondent intentionally, knowingly and/or recklessly committed research misconduct by:

• Fabricating/falsifying images in Figures 1A and 1C, and inflating the “n” (sample size) values in Figures 1B and 1E, of Ann Rheum Dis. 2016;

• Fabricating/falsifying images in Figure 4A of J Cell Physiol. 2015a;

• Fabricating/falsifying images in Figures 7A and 7B, and inflating the “n” values in Figure 4A, of J Cell Physiol. 2015b;

• Fabricating/falsifying an image and inflating the “n” values in Figure 1A of the Arthritis Rheum manuscript;

• Fabricating/falsifying data and inflating “n” values in Figures in the OARSI presentation 2016; and

• Fabricating/falsifying images in Figures 1A, 4A, 6, 9, 12, and 17B of the VA Merit Award proposal.

Based on these findings of research misconduct, upheld by the Under Secretary for Health on appeal in a decision dated April 24, 2023, the Department has imposed the following corrective actions:

(1) Permanent prohibition from conducting VA research;

(2) Publication of VA's findings of research misconduct;

(3) Notification to the relevant Federal funding agencies of the findings;

(4) Requesting retraction of the affected publications;

(5) Prohibition from publishing the Arthritis Rheum manuscript; and

(6) Prohibition from re-presenting the content of the OARSI presentation 2016.

Signing Authority

Denis McDonough, Secretary of Veterans Affairs, approved and signed this document on October 26, 2023, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2023-24342 Filed 11-2-23; 8:45 am]

BILLING CODE 8320-01-P